DEPARTMENT OF COMMERCE

National Oceanic and Atmospheric Administration

RIN 0648-XF769

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Atlantic Mackerel, Squid, and Butterfish (MSB) Committee will hold a public meeting to review and develop comments regarding options being considered to modify the Atlantic Herring Fishery Management Plan, which could impact the MSB fisheries.

DATES: The meeting will be held Monday, November 6, 2017, from 9 a.m. to noon.

ADDRESSES: The meeting will be held via webinar: http://mafmc.adobeconnect.com/msb-com-nov-2017/. Call-in information is provided upon logging onto the webinar.

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255. The Council's Web site, www.mafmc.org will also have details on the proposed agenda and any briefing materials.

SUPPLEMENTARY INFORMATION: The New England Fishery Management Council is considering changes to Atlantic Herring management measures that could impact MSB fishing. The MSB Committee will receive an update on the options under consideration, and if appropriate develop comments for the New England Fishery Management Council to consider.

Although other non-emergency issues not on the agenda may come before this group for discussion, those issues may not be the subject of formal action during this meeting. Actions will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aid should be directed to M. Jan Saunders, (302) 526-5251, at least 5 days prior to the meeting date.

Dated: October 13, 2017.
Jeffrey N. Lonergan,
Acting Deputy Director, Office of Sustainable Fisheries, National Marine Fisheries Service.

[FR Doc. 2017-22642 Filed 10-17-17; 8:45 am]

BILLING CODE 3510-22-P